ENVIRONMENTAL PROTECTION AGENCY

[EPA-HQ-OPP-2011-0996; FRL-9331-3]

Butylate, Fenoxycarb, Sodium Tetrathiocarbonate, and Temephos Registration Review Final Decisions; Notice of Availability

AGENCY: Environmental Protection Agency (EPA).

ACTION: Notice.

SUMMARY: This notice announces the availability of EPA's final registration review decisions for the pesticides butylate, case no. 0071; fenoxycarb, case no. 7401; sodium tetrathiocarbonate, case no. 7009; and temephos, case no. 0006. Registration review is EPA's periodic review of pesticide registrations to ensure that each pesticide continues to satisfy the statutory standard for registration, that is, that the pesticide can perform its intended function without causing unreasonable adverse effects on human health or the environment. Through this program, EPA is ensuring that each pesticide's registration is based on current scientific and other knowledge, including its effects on human health and the environment.

FOR FURTHER INFORMATION CONTACT: For pesticide specific information, contact: The chemical review manager identified in the Table of Unit II. for the pesticide of interest.

For general information on the registration review program, contact: Kevin Costello, Pesticide Re-evaluation Division (7508P), Office of Pesticide Programs, Environmental Protection Agency, 1200 Pennsylvania Ave. NW., Washington, DC 20460-0001; telephone number: (703) 305-5026; fax number: (703) 308-8090; email address: costello.kevin@epa.gov.

SUPPLEMENTARY INFORMATION:

I. General Information

A. Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the pesticide specific contact person listed under FOR FURTHER INFORMATION CONTACT.

B. How can I get copies of this document and other related information?

EPA has established a docket for this action under docket identification (ID) number EPA-HQ-OPP-2011-0996. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

A. What action is the agency taking?

Pursuant to 40 CFR 155.58(c), this notice announces the availability of EPA's final registration review decisions for butylate, case no. 0071; fenoxycarb, case no. 7401; sodium tetrathiocarbonate, case no. 7009; and temephos, case no. 0006. Butylate is a thiocarbamate soil-incorporated herbicide and was registered for use on field corn, pop corn, and sweet corn. The last butylate pesticide product registered for use in the United States was cancelled on March 23, 2011. Fenoxycarb is an O-ethyl carbamate derivative insecticide used to control fire ants and big-headed ants on turf, home lawns, agricultural areas, non-agricultural areas, horse farms, and ornamental nursery stock, among other areas. Fenoxycarb is also used to control a variety of insects in greenhouses in a total release fogger product. Sodium tetrathiocarbonate is a soil fumigant used for the management of nematodes and phytophthora root rot, oak root fungus, and phylloxera. It was registered for use on grapes, citrus, almonds, peaches, prunes, and plums only in the states of Arizona, California, Oregon, and Washington. Temephos is a non-systemic organophosphate insecticide which is applied to standing water, shallow ponds, lakes, woodland pools, tidal waters, marshes, swamps, waters high in organic content, highly polluted water, catch basins (and similar areas where mosquitoes may breed), stream margins, and intertidal zones of sandy beaches. Target pests include aquatic larvae of mosquitoes, midges, gnats, punkies, and sandflies.

Table—Registration Review Cases With Final Decisions
Registration review case name and no. | Pesticide docket ID no. | Chemical review manager, telephone No., email address
Butylate Case Number 0071 | EPA-HQ-OPP-2008-0882 | Steven Snyderman, (703) 347-0249, snyderman.steven@epa.gov.
Fenoxycarb Case Number 7401 | EPA-HQ-OPP-2006-0111 | Tom Myers, (703) 308-8589, myers.tom@epa.gov.
Sodium Tetrathiocarbonate Case Number 7009 | EPA-HQ-OPP-2007-1084 | Tom Myers, (703) 308-8589, myers.tom@epa.gov.
Temephos Case Number 0006 | EPA-HQ-OPP-2008-0444 | Tom Myers, (703) 308-8589, myers.tom@epa.gov.

Pursuant to 40 CFR 155.57, a registration review decision is the Agency's determination whether a pesticide meets, or does not meet, the standard for registration in FIFRA. EPA has considered butylate, fenoxycarb, sodium tetrathiocarbonate, and temephos in light of the FIFRA standard for registration. The butylate, fenoxycarb, sodium tetrathiocarbonate, and temephos Final Decision documents in the dockets describe the Agency's rationale for issuing registration review final decisions for these pesticides.

In addition to the final registration review decision document, the registration review dockets listed in the Table of Unit II. for butylate, fenoxycarb, sodium tetrathiocarbonate, and temephos also include other relevant documents related to the registration review of these cases. The proposed registration review decision documents were posted to the respective dockets and the public was invited to submit any comments or new information. During the 60-day comment period, no public comments were received for butylate, fenoxycarb, and sodium tetrathiocarbonate. Comments were received for temephos, from the American Mosquito Control Association, Lee County Mosquito Control District, the IR-4 Project, and Value Garden Supply. The comments emphasized the benefits of temephos as it is used in public health for mosquito control. The Agency recognizes the role of temephos in mosquito control and has agreed to a 4-year phase-out of the product registrations to accommodate the public health need and allow registrants time to develop replacement products. The current temephos products will not be cancelled until December 30, 2015. Also, Value Garden Supply requested to rescind their voluntary cancellation. In response to Value Garden Supply's request to rescind their voluntary cancellation request, the Agency has been in discussions with the registrant about the specific scientific data required to support their temephos product registrations affected by the Cancellation Order. If the required temephos data are submitted by the registrant, reviewed, and found acceptable by the Agency prior to December 30, 2015, the Agency may amend the Cancellation Order for the affected product registrations. Pursuant to 40 CFR 155.58(c), the registration review case dockets for butylate, fenoxycarb, sodium tetrathiocarbonate, and temephos will remain open until all actions required in these final decisions have been completed.

Background on the registration review program is provided at: http://www.epa.gov/oppsrrd1/registration_review. Links to earlier documents related to the registration review of these pesticide are provided at: http://www.epa.gov/oppsrrd1/registration_review/butylate/, http://www.epa.gov/oppsrrd1/registration_review/fenoxycarb/, http://www.epa.gov/oppsrrd1/registration_review/sodium_tetrathiocarbonate/, and http://www.epa.gov/oppsrrd1/registration_review/temephos/.

B. What is the agency's authority for taking this action?

Section 3(g) of FIFRA and 40 CFR part 155, subpart C, provide authority for this action.

List of Subjects

Environmental protection, Registration review, Pesticides and pests, Butylate, Fenoxycarb, Sodium tetrathiocarbonate, and Temephos.

Dated: December 21, 2011.
Richard P. Keigwin, Jr.,
Director, Pesticide Re-evaluation Division, Office of Pesticide Programs.

[FR Doc. 2012-212 Filed 1-10-12; 8:45 am]

BILLING CODE 6560-50-P